SOCIAL SECURITY ADMINISTRATION

Agency Information Collection Activities: Proposed Request and Comment Request

The Social Security Administration (SSA) publishes a list of information collection packages that will require clearance by the Office of Management and Budget (OMB) in compliance with Public Law 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer and at the following addresses:

(OMB), Office of Management and Budget, Attn: Desk Officer for SSA, New Executive Office Building, Room 10230, 725 17th St., NW., Washington, DC 20503.

(SSA), Social Security Administration, DCFAM, Attn: Frederick W. Brickenkamp, 1-A-21 Operations Bldg., 6401 Security Blvd., Baltimore, MD 21235.

I. The information collections listed below will be submitted to OMB within 60 days from the date of this notice. Therefore, your comments should be submitted to SSA within 60 days from the date of this publication. You can obtain copies of the collection instruments by calling the SSA Reports Clearance Officer at 410-965-4145, or by writing to him at the address listed above.

1. Electronic Death Registration Survey—0960-0625. Section 205(r) requires the Social Security Administration (SSA) to enter into agreements with States to obtain death records. Sections 202(a)(1)-(h)(1) require SSA to terminate Retirement, Survivors and Disability benefits upon the death of the beneficiary. This survey will measure the States' readiness to implement electronic death registration processes, which will result in SSA getting death information more timely and accurately to terminate benefits as required by law. The respondents are State Vital Records Directors.

Number of Respondents: 55.

Frequency of Response: 1.

Average Burden Per Response: 30 minutes.

Estimated Annual Burden: 28 hours.

2. Statement of Agricultural Employer (Years prior to 1988); Statement of Agricultural Employer (1988 and Later)—0960-0036. The information on Forms SSA-1002 and SSA-1003 is used by the Social Security Administration (SSA) to resolve discrepancies when farm workers have alleged that their employers did not report their wages or reported them incorrectly. The respondents are agricultural employers.

| SSA-1002 | SSA-1003
Number of Respondents | 75,000 | 50,000
Frequency of Response | 1 | 1
Average Burden Per Response | 10 minutes | 30 minutes.
Estimated Annual Burden | 12,500 hrs | 25,000 hrs.

II. The information collections listed below have been submitted to OMB for clearance. Your comments on the information collections would be most useful if received by OMB and SSA within 30 days from the date of this publication. You can obtain a copy of the OMB clearance package by calling the SSA Reports Clearance Officer on (410) 965-4145, or by writing to him at the address listed above.

1. Disability Hearing Officer's Report of Disability Hearing—0960-0440. The information on Form SSA-1205-BK is used by the Disability Hearing Officers (DHOs) at the Social Security Administration (SSA) as a guide to conducting and recording disability hearings. It ensures that all of the pertinent issues are considered. The respondents are DHOs in the State Disability Determination Services and Federal DHOs.

Number of Respondents: 100,000.

Frequency of Response: 1.

Average Burden Per Response: 60 minutes.

Estimated Annual Burden: 100,000.

2. Application For Benefits Under The Italy-U.S. International Social Security Agreement—0960-0445. The information collected on Form SSA-2528 is required by SSA in order to determine entitlement to benefits. The respondents are applicants for old-age, survivors or disability benefits, who reside in Italy.

Number of Respondents: 200.

Frequency of Response: 1.

Average Burden Per Response: 20 minutes.

Estimated Annual Burden: 67 hours.

3. Request for Claimant Conference—0960-0608. The information collected on form SSA-378 is used by the Disability Adjudicator to complete processing of a claimant's disability claim. Depending on the response, the Disability Adjudicator schedules/conducts the Claimant Conference, awaits the receipt of additional evidence, requests additional evidence from the source, or finalizes the determination on the case. The respondents are applicants for Social Security disability and Supplemental Security Income benefits whose initial determination of disability will be less than fully favorable.

Number of Respondents: 210,500.

Frequency of Response: 1.

Average Burden Per Response: 3 minutes.

Estimated Annual Burden: 10,525 hours.

4. Disability Hearing Officer's Report of Disability Hearing (DC)—0960-0507. The information collected on form SSA-1204-BK is used by the Disability Hearing Officer (DHO) to conduct and document disability hearings, and to provide a structured format that concerns all conceivable issues relating to SSI claims for disabled children. The completed form SSA-1204-BK will aid the DHO in preparing the disability decision and will provide a record of what transpired at the hearing. The respondents are DHO's in the State Disability Determination Services.

Number of Respondents: 100,000.

Frequency of Response: 1.

Average Burden Per Response: 60 minutes.

Estimated Annual Burden: 100,000 hours.

Dated: June 21, 2001.
Frederick W. Brickenkamp,
Reports Clearance Officer.

[FR Doc. 01-16194 Filed 6-27-01; 8:45 am]

BILLING CODE 4191-02-P